DEPARTMENT OF COMMERCE

National Telecommunications and Information Administration

[Docket No. 080129095-8096-01]

Spectrum Sharing Innovation Test-Bed

AGENCY: National Telecommunications and Information Administration, U.S. Department of Commerce

ACTION: Notice of Solicitation of Participation

SUMMARY: On June 8, 2006, the Department of Commerce's National Telecommunication and Information Administration (NTIA) published a Notice of Inquiry in the Federal Register seeking public comment on the implementation of the Presidential Spectrum Policy Initiative Spectrum Sharing Innovation Test-Bed (Test-Bed). This Notice of Solicitation of Participation seeks expressions of interest from parties that may be willing to participate in the Test-Bed.

DATES: Expressions of interest are due on or before February 29, 2008.

ADDRESSES: Expressions of interest should be sent to the attention of Ed Drocella, Office of Spectrum Management, 1401 Constitution Avenue, N.W., Room 6725, Washington DC 20230; by facsimile transmission to (202) 482-4595; or by electronic mail to testbed@ntia.doc.gov.

FOR FURTHER INFORMATION CONTACT: Ed Drocella at (202) 482-2608 or edrocella@ntia.doc.gov.

SUPPLEMENTARY INFORMATION:

I. Background

In May 2003, President Bush established the Spectrum Policy Initiative to promote the development and implementation of a United States spectrum policy for the 21st Century.¹ In response to the Spectrum Policy Initiative, the Secretary of Commerce established a Federal Government Spectrum Task Force and initiated a series of public meetings to address policies affecting spectrum use by the federal, state, and local governments, and the private sector. The recommendations resulting from these activities were included in two reports released by the Secretary of Commerce in June 2004.² Based on the recommendations contained in these reports, the President directed the federal agencies on November 30, 2004, to plan the implementation of the recommendations contained in the reports.³

¹ Presidential Memorandum on Spectrum Policy for the 21st Century, 69 FR 1568 (Jan. 9, 2004), 39 Weekly Comp. Pres. Doc. 726, 727 (May 29, 2003), available at http://www.whitehouse.gov/news/releases/2003/06/20030605-4.html.

² Department of Commerce, Spectrum Policy for the 21st Century - The President's Spectrum Policy Initiative: Report 1 Recommendations of the Federal Government Spectrum Task Force (June 2004) (“Report 1”); Department of Commerce, Spectrum Policy for the 21st Century - The President's Spectrum Policy Initiative: Report 2 Recommendations From State and Local Governments and Private Sector Responders (June 2004) (“Report 2”). These reports are available at http://www.ntia.doc.gov/reports/.

³ President's Memorandum on Improving Spectrum Management for the 21st Century, 49 Weekly Comp. Pres. Doc. 2875 (Nov. 29, 2004).

One of these recommendations stated that NTIA and the Federal Communications Commission (FCC), in coordination with the federal agencies are to establish a Test-Bed to examine the feasibility of increased sharing between federal and non-federal users.⁴ Specifically, the Test-Bed recommendation states:

⁴ By this Notice, NTIA is implementing its responsibilities under the President's November 2004 Executive Memorandum. The FCC is also designating spectrum and establishing procedures for the Test-Bed through a public notice. Public Notice, Federal Communications Commission Designates Spectrum and Provides Guidance for Participation in a Spectrum Sharing Innovation Test-Bed, ET Docket No. 06-89.

Within two years of this report's publication, NTIA and the FCC should establish a pilot program to allow for increased sharing between federal and non-federal users. NTIA and the FCC should each identify a segment of spectrum of equal bandwidth within their respective jurisdiction for this program. Each segment should be approximately 10 MHz for assignment on a shared basis for federal and non-federal use. The spectrum to be identified for this pilot program could come from bands currently allocated on either an exclusive or shared basis. Two years after the inception of the pilot program, NTIA and the FCC should provide reports outlining the results and suggesting appropriate procedures for expanding the program as appropriate.⁵

⁵ Report 1, supra note 2, Recommendation 11; Report 2, supra note 2, Recommendation 6(b).

The recommendation to establish the Test-Bed recognized that the increased use of spectrum for federal and non-federal communications necessitates increased sharing to benefit both federal and non-federal users of the spectrum.

On June 8, 2006, NTIA published a Notice of Inquiry (NOI) in the Federal Register seeking public comment on issues related to the Test-Bed.⁶ The FCC also solicited public comment on issues related to the Test-Bed through a separate Public Notice (PN).⁷ There were 14 comments filed in response to the NOI and 16 comments and 9 reply comments filed in response to the PN.⁸ In addition, the public comments were reviewed by the Commerce Spectrum Management Advisory Committee (CSMAC), which was established as part the Presidential Spectrum Policy Initiative to advise the Assistant Secretary of Communications and Information, Department of Commerce, on needed reforms to spectrum policies and management to enable the introduction of new spectrum dependent technologies and services.⁹ NTIA also sought comments from the Interdepartment Radio Advisory Committee (IRAC).¹⁰ The public responses to the NTIA NOI and FCC PN as well as the comments provided by the CSMAC and the IRAC were used to develop the federal portion of the Test-Bed described below.

⁶ National Telecommunications and Information Administration, Docket, No. 060602142-6142-01,Notice of Inquiry, 71 FR 33282 (June 8, 2006).

⁷ Federal Communications Commission, ET Docket No. 06-89, FCC 06-77, Creation of a Spectrum Sharing Innovation Test-Bed, 71 FR 35675 (June 21, 2006).

⁸ The complete public comments filed in response to the NOI are available at http://www.ntia.doc.gov. The complete public comments and reply comments filed in response to the PN are available on the FCC Electronic Comment Filing System (ET Docket No. 06-89).

⁹ Commerce Spectrum Management Advisory Committee Report: Opportunities Relating to the Spectrum Sharing Test Bed, available at http://www.ntia.doc.gov/osmhome/reports/2007/CSMAC_TestBed_Report.pdf.

¹⁰ The IRAC, consisting of representatives of 20 federal agencies, serves in an advisory capacity to the Assistant Secretary of Commerce for Communications and Information. The IRAC assists the Assistant Secretary in the discharge of responsibilities pertaining to the use of the electromagnetic spectrum.

II. Test-Bed Description

Test-Bed Goal: To objectively evaluate new technologies to facilitate sharing between federal and non-federal spectrum users. If sharing is successfully demonstrated, the results of the Test-Bed can be used as the basis to establish service rules for the technologies that have operated in the Test-Bed frequency bands.¹¹

¹¹ The subsequent designation of bands where the technologies might be authorized to operate on a permanent basis would be the subject of a separate rulemaking.

Number of Simultaneously Operating Test-Beds: One.

Test-Bed Technology: Equipment employing Dynamic Spectrum Access (DSA) technology.¹²

¹² Dynamic Spectrum Access technology allows a radio device to (i) evaluate its radio frequency environment using spectrum sensing, geo-location, or a combination of spectrum sensing and geo-location techniques, (ii) determine which frequencies are available for use on a non-interference basis, and (iii) reconfigure itself to operate on the identified frequencies.

Test-Bed Frequency Band: 410-420 MHz.

Authorization of Test-Bed Operations: FCC Part 5 Experimental Radio Service Rules.

Limitations on Test-Bed Operations: Frequency and/or geographic limitations may be identified as necessary.

Protection of Incumbent Spectrum Users: To address potential interference to incumbent spectrum users the Test-Bed employing DSA equipment will be performed in three phases:

Phase 1 - Equipment Characterization. Equipment employing DSA techniques will be sent to the NTIA Institute for Telecommunication Sciences in Boulder, Colorado and characterization measurements of the DSA capabilities in response to simulated environmental signals will be performed.

Phase 2 - Evaluation of Capabilities. After successful completion of Phase 1, the DSA capabilities of the equipment in the geographic area of the Test-Bed will be evaluated.

Phase 3 - Field Operation Evaluation. After successful completion of Phase 2, the DSA equipment will be permitted to transmit in an actual radio frequency signal environment. An automatic signal logging capability will be used during the operation of the Test-Bed to help resolve interference events if they occur. A point-of-contact will also be established to stop Test-Bed operations if interference is reported.

Planning and Evaluation of Test-Bed: A flexible peer review process open to the public will be employed.¹³ Federal and non-federal users will have an opportunity to participate in the development of test plans, review status reports, and review the final report on the results of the Test-Bed.

¹³ There may be certain limitations on the peer review process to take into account the proprietary rights of the developers participating in the Test-Bed. As part of the Test-Bed, NTIA may enter into Cooperative Research and Development Agreements or Joint Project Agreements with the equipment developers.

III. Expressions of Interest

The following criteria will be used to evaluate the DSA technologies proposed for the Test-Bed:¹⁴

¹⁴ The NTIA NOI proposed these criteria to evaluate the Test-Bed technologies and they are adopted as evaluation criteria herein.

How well does the proposed technology achieve the goal of the Test-Bed?

How readily available is the equipment proposed for the Test-Bed?

How well does the proposed technology explore creative and original concepts in spectrum sharing?

For the proposed technology, can the results of the Test-Bed be disseminated broadly to enhance scientific and technologic understanding?

How well does the proposed technology address the potential impact on the incumbent spectrum user(s)?

Can the proposed technology be adapted for a variety of services and applications, including broadband, military/homeland security, and public safety?

Are there any technical factors that limit the proposed technology to a specific frequency range?

Will the necessary technical support be provided to assure performance of the equipment during the Test-Bed?

On or before February 29, 2008, interested parties wishing to participate in the Test-Bed should submit to the address set forth above, their name, address, phone number, e-mail address and a short description of the DSA technology. After receiving all submissions, NTIA may contact any party that submitted an expression of interest to follow-up on how its DSA technology would meet the above evaluation criteria. NTIA will send via U.S. mail a letter to the selected Test-Bed participants. NTIA will also publish a list of all Test-Bed participants on its website.

Dated: January 30, 2008.
Kathy D. Smith,
Chief Counsel, National Telecommunications and Information Administration.

[FR Doc. E8-2050 Filed 2-4-08; 8:45 am]

BILLING CODE 3510-60-S